FEDERAL COMMUNICATIONS COMMISSION

Notice of Public Information Collection(s) Being Reviewed by the Federal Communications Commission

June 27, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 4, 2000. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0104.

Title: Temporary Permit to Operate a Part 90 Radio Station.

Form No.: FCC Form 572.

Type of Review: Extension of a currently approved collection.

Respondents: Individuals or households, business or other for-profit, not-for-profit institutions, state, local or tribal governments.

Number of Respondents: 2,000.

Estimated Time Per Response: 6 minutes.

Frequency of Response: Recordkeeping requirement.

Total Annual Burden: 200 hours.

Total Annual Cost: N/A.

Needs and Uses: Applicants are required to complete FCC Form 572 if they wish to have immediate authorization to operate 2-way radio equipment in Part 90 radio services. Applicants eligible to hold a radio station authorization in the Private Land Mobile Radio Service may use this form as a temporary permit to operate their equipment during processing of an application for license grant. This form is completed and posted at the applicant's station and is not submitted to the FCC.

OMB Control No.: 3060-0746.

Title: Application for Electronic Renewal of Wireless Radio Services Authorizations.

Form No.: FCC Form 900.

Type of Review: Extension of a currently approved collection.

Respondents: Individuals or households, business or other for-profit, not-for-profit institutions, state, local or tribal governments.

Number of Respondents: 35,255.

Estimated Time Per Response: 10 minutes.

Frequency of Response: On occasion reporting requirement.

Total Annual Burden: 5,852 hours.

Total Annual Cost: $2,155,675.

Needs and Uses: This “generic” renewal application may be used in lieu of FCC Forms 313R, 405A, 452R and 574R, to file electronically for renewal of Wireless Radio Services Authorizations. Concurrent with renewal, applicants may also request a change of licensee name (with no change to corporate structure, ownership or control), change of mailing address, re-instatement of a Land Mobile license, and notify the Commission of a change in the number of mobiles/pagers for a Land Mobile license.

Applicants still desiring to file for renewal of license manually may still do so by submitting the FCC Forms 313R, 405A, 452R, or 574R, depending upon which radio services for which they are licensed.

This generic renewal form displays information from the current authorization as it exists in the Commission's license database based upon the call sign entered by the applicant. Information can be added and edited if necessary and electronically submitted to the Commission. It is estimated that 90% of these applications “auto-grant” within a few days of receipt and only 10% require further examiner review.

The information is used by engineers for enforcement and interference resolution purposes.

Federal Communications Commission.
Magalie Roman Salas,
Secretary.

[FR Doc. 00-16872 Filed 7-3-00; 8:45 am]

BILLING CODE 6712-01-P